FEDERAL COMMUNICATIONS COMMISSION

47 CFR Part 0

[FCC 08-27]

Amendment of Part 0 of the Commission's Rules to Delegate Administration of Part 4 of the Commission's Rule to the Public Safety and Homeland Security Bureau

AGENCY: Federal Communications Commission.

ACTION: Final rule.

SUMMARY: In the Order, the Federal Communications Commission (Commission) amended the Commission's rules to delegate authority to the Public Safety and Homeland Security Bureau to administer the Commission's rules that pertain to disruptions to communications. This delegation is consistent with the purpose and functions of the Bureau to promote a more efficient, effective and responsive organizational structure and to better promote and address public safety, homeland security, national security, emergency management and preparedness, disaster management, and related issues. Establishment of the Public Safety and Homeland Security Bureau, Order, 21 FCC Rcd 13655 (2006).

DATES: Effective February 21, 2008.

ADDRESSES: Federal Communications Commission, 445 12th Street, SW., Room TW-A325, Washington, DC 20554.

FOR FURTHER INFORMATION CONTACT: Robert Krinsky, Attorney Advisor, Communications Systems Analysis Division, Public Safety and Homeland Security Bureau, Federal Communications Commission at (202) 418-2909; Robert.Krinsky@fcc.gov.

SUPPLEMENTARY INFORMATION: This is a summary of the Commission's non-docketed Order, FCC 08-27, adopted January 28, 2008 and released on January 30, 2008. The complete text of this document is available for inspection and copying during normal business hours in the FCC Reference Information Center, Portals II, 445 12th Street, SW., Room CY-A257, Washington, DC 20554. This document may also be purchased from the Commission's duplicating contractor, Best Copy and Printing, Inc., in person at 445 12th Street, SW., Room CY-B402, Washington, DC 20554, via telephone at (202) 488-5300, via facsimile at (202) 488-5563, or via e-mail at FCC@BCPIWEB.COM. Alternative formats (computer diskette, large print, audio cassette, and Braille) are available to persons with disabilities by sending an e-mail to FCC504@fcc.gov or calling the Consumer and Governmental Affairs Bureau at (202) 418-0530, TTY (202) 418-0432. This document is also available on the Commission's Web site at http://www.fcc.gov.

Synopsis of the Order

1. In the Order, the Commission amends its rules to delegate authority to the Public Safety and Homeland Security Bureau (Bureau) to administer part 4 of the Commission's rules, which pertain to disruptions to communications.

2. On March 17, 2006, the Commission established the Bureau in order to promote a more efficient, effective and responsive organizational structure and to better promote and address public safety, homeland security, national security, emergency management and preparedness, disaster management, and related issues. Establishment of the Public Safety and Homeland Security Bureau, Order, 21 FCC Rcd 13655 (2006). The delegation of authority to the Bureau to administer the part 4 rules is consistent with the purpose and functions of the Bureau.

3. The delegation of this authority to the Bureau comports with § 0.191(g) of the Commission's rules, which provides, in pertinent part, that the Bureau “[c]onducts studies of public safety, homeland security, national security, emergency management and preparedness, disaster management, and related issues. Develops and administers recordkeeping and reporting requirements for communications companies pertaining to these issues. Administers any Commission information collection requirements pertaining to public safety, homeland security, national security, emergency management and preparedness, disaster management, and related issues.” 47 CFR 0.191(g). The delegation of this authority to the Bureau is also consistent with § 0.392 of the Commission's rules, 47 CFR 0.392, which gives the Bureau delegated authority to perform all functions of the Bureau described in § 0.191 of the Commission's rules. Further, the action we take in this Order is consistent with § 4.11 of the Commission's rules, which states that when outage reports cannot be submitted electronically using the Commission-approved Web-based system, written reports should be filed and all hand-delivered outage reports should be addressed to the Federal Communications Commission, The Office of Secretary, Attention: Chief, Public Safety & Homeland Security Bureau. 47 CFR 4.11.

4. Authority for the adoption of the foregoing revisions is contained in sections 1, 4(i), 4(j), 5(b), 5(c), 201(b) and 303(r) of the Communications Act of 1934, as amended. 47 U.S.C. 151, 154(i), 154(j), 155(b), 155(c), 201(b) and 303(r).

5. The adopted amendments pertain to agency organization, procedure and practice. Consequently, the notice and comment provisions of the Administrative Procedure Act contained in 5 U.S.C. 553(b) are inapplicable.

6. Accordingly, the Commission ordered that part 0 of the Commission Rules, set forth in Title 47 of the Code of Federal Regulations, be amended to delegate authority to the Public Safety and Homeland Security Bureau to administer part 4 of the Commission's rules, which pertain to disruptions to communications.

List of Subjects in 47 CFR Part 0

Organizations and functions (Government agencies).

Federal Communications Commission.
Marlene H. Dortch,
Secretary.

Rule Changes

For the reasons set forth in the preamble, the Federal Communications Commission amends part 0 of Title 47 of the Code of Federal Regulations as follows:

PART 0—COMMISSION ORGANIZATION

1. The authority citation for part 0 continues to read as follows:

Authority: Secs. 5, 48 Stat. 1068, as amended; 47 U.S.C. 155, 225, unless otherwise noted.

2. Section 0.31 is amended by revising paragraph (i) to read as follows:

§ 0.31 Functions of the Office.

* * * * *

(i) To administer parts 2, 5, 15, and 18 of this chapter, including licensing, recordkeeping, and rule making.

* * * * *

3. Section 0.191 is amended by revising paragraph (g) to read as follows:

§ 0.191 Functions of the Bureau.

* * * * *

(g) Conducts studies of public safety, homeland security, national security, emergency management and preparedness, disaster management, and related issues. Develops and administers recordkeeping and reporting requirements for communications companies pertaining to these issues. Administers any Commission information collection requirements pertaining to public safety, homeland security, national security, emergency management and preparedness, disaster management, and related issues, including the communications disruption reporting requirements set forth in part 4 of this chapter and revision of the filing system and template used for the submission of those communications disruption reports.

* * * * *

4. Section 0.241 is amended by revising paragraph (a)(1), removing paragraph (d), and redesignating paragraphs (e) through (i) as (d) through (h) to read as follows:

§ 0.241 Authority delegated.

* * * * *

(a) * * *

(1) Notices of proposed rulemaking and of inquiry and final orders in rulemaking proceedings, inquiry proceedings and non-editorial orders making changes.

* * * * *

5. Section 0.392 is amended by adding new paragraph (i) to read as follows:

§ 0.392 Authority delegated.

* * * * *

(i) The Chief of the Public Safety and Homeland Security Bureau is delegated authority to administer the communications disruption reporting requirements contained in part 4 of this chapter and to revise the filing system and template used for the submission of such communications disruption reports.

[FR Doc. E8-3135 Filed 2-20-08; 8:45 am]

BILLING CODE 6712-01-P